DEPARTMENT OF COMMERCE

Foreign-Trade Zones Board

[B-50-2025]

Foreign-Trade Zone 115; Application for Subzone; Phillips 66 Company; Nederland, Texas

An application has been submitted to the Foreign-Trade Zones (FTZ) Board by the Foreign Trade Zone of Southeast Texas, Inc., grantee of FTZ 115, requesting subzone status for the facility of Phillips 66 Company, located in Nederland, Texas. The application was submitted pursuant to the provisions of the Foreign-Trade Zones Act, as amended (19 U.S.C. 81a-81u), and the regulations of the FTZ Board (15 CFR part 400). It was formally docketed on December 9, 2025.

The proposed subzone (560 acres) is located at 128 Magnolia Avenue, Nederland, Texas. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is January 20, 2026. Rebuttal comments in response to material submitted during the foregoing period may be submitted through February 4, 2026.

A copy of the application will be available for public inspection in the “Online FTZ Information Section” section of the FTZ Board's website, which is accessible via www.trade.gov/ftz.

For further information, contact Camille Evans at Camille.Evans@trade.gov.

Dated: December 9, 2025.
Elizabeth Whiteman,
Executive Secretary.

[FR Doc. 2025-22578 Filed 12-10-25; 8:45 am]

BILLING CODE 3510-DS-P